NATIONAL SECURITY COMMISSION ON ARTIFICIAL INTELLIGENCE

[Docket No.: 09-2020-01]

Solicitation of Written Comments by the National Security Commission on Artificial Intelligence

AGENCY: National Security Commission on Artificial Intelligence.

ACTION: Request for comments.

SUMMARY: The National Security Commission on Artificial Intelligence (“the Commission) is publishing this notice to request comments from small- and medium-sized AI firms to help the Commission understand different views on working with the federal government. Responses will assist in identifying critical areas for improvement and recommended changes in the government's approach to technology procurement and support for commercial innovation.

DATES: Comment Date: The Commission requests comments from qualified parties on or before October 23, 2020.

ADDRESSES: You may submit comments, identified by Docket No. 09-2020-01, by one of the following methods:

• Email: inquiry@nscai.gov. Please include the docket number in the subject line of the message.

• Mail: National Security Commission on Artificial Intelligence, Attn: RFI COMMENT—Docket No. 09-2020-01, 2530 Crystal Drive, Box 45, Arlington, VA 22202.

• Fax: +1-571-778-5049. Please include the docket number on the fax cover page.

Due to the ongoing COVID-19 coronavirus pandemic, email is the Commission's primary method of receiving public comment. All submissions received must include the docket number. If the Commission cannot read your comment due to technical difficulties and cannot contact you for clarification, the Commission may not be able to consider your comment. Late comments will be considered as time permits. Please note, any comments received by the Commission may be treated as public documents, be published on the Commission's website, or be included with its reports and/or recommendations. Based on the inputs from responders, the Commission may select particular responders for follow up conversations with the Commission's special project on public private partnerships. Submitters should be aware that the Commission is subject to the Freedom of Information Act and will transfer official records, including comments received, to the National Archives and Records Administration upon termination of the Commission.

FOR FURTHER INFORMATION CONTACT: For general inquiries, submission process questions, or any additional information about this request for comments, please contact Tara Rigler by email at inquiry@nscai.gov.

SUPPLEMENTARY INFORMATION:

Background

In the John S. McCain National Defense Authorization Act for Fiscal Year 2019, Sec. 1051, Public Law 115-232, 132 Stat. 1636, 1962-65 (2018), Congress directed the Commission to consider public-private partnerships relative to the competitiveness of the United States in AI, machine learning, and other associated technologies. In accordance with this direction, the Commission established a special project on public-private partnerships. The Commission has engaged stakeholders from across industry, academia, government, and civil society with the following objectives: (1) Assess the relationship between the National Security Innovation Base (NSIB) and the United States Government; and (2) Identify options for improving cooperation between the NSIB and the United States Government to increase the well-being of our citizens, strengthen the nation's entrepreneurial ecosystems, and protect the nation's security.

This research has informed the Commission's approach from the outset and is reflected in one of the seven consensus principles outlined in the Interim Report, which states: “Private sector leaders and government officials must build a shared sense of responsibility for the welfare and security of the American people.” In addition, these engagements have also influenced recommendations in the Commission's First and Second Quarter memorandums. The Commission's Interim Report, as well as the First and Second Quarter recommendations, can be found on the Commission's website at https://www.nscai.gov/reports. Moving towards its final report, due in March 2021, the Commission now seeks input from small- and medium-sized AI firms on methods and means by which the Government should engage with the private sector and bolster commercial AI innovation.

Instructions

Respondents may choose to comment on one or all of the topic areas listed below. Please note that only comments received from firms that meet the small business size standard for NAICS codes 541715 and 611420 will be considered under this request for comments. Firms that do not fit the NAICS code or size standard but wish to comment may do so via the Commission's general request for public comment, 85 FR 32055, https://www.federalregister.gov/d/2020-11453, which solicits feedback on the various other efforts associated with our mandate.

Topic Areas for Comment and Recommendations

The following list of topics represents various areas about which the Commission seeks comments. It is not intended to limit topics that may be addressed by respondents, but rather focus attention on key areas the Commission has identified as relevant to catalyzing AI innovation, expanding the national security innovation base, and making it easier for firms to do business with the federal government. While the Commission welcomes comments on obstacles and barriers in the current system, it will prioritize inputs relative to these topics that make specific recommendations in any or all of the following areas: Statute, regulation, policy, budget, organization, and culture.

Specific Questions To Address

• What are the challenges or obstacles you face in seeking to do business with the Federal Government, to include scaling successful solutions? What changes could be made to reduce or remove those challenges or obstacles?

• How do you weigh the tradeoffs between accepting financing from U.S. firms versus foreign firms? What role could the U.S. Government play in connecting U.S. firms with trusted investors in the United States and allied countries?

• When is the Federal Government a compelling customer? When is it not? What steps could the Federal Government take to become a more compelling customer?

• How could the government better communicate (1) national security challenges to industry and (2) opportunities for industry to demonstrate and iterate potential solutions? How could the government structure engagements with industry to foster innovative and unexpected solutions?

• If your firm were to initiate or expand its national security or national interest work, what large capital investments over the next 24 months would your firm consider making in the United States? How much financial support and in what form (e.g., non-dilutive capital, loan guarantees, equity stakes, or other financial instruments) would be required from the U.S. government to undertake those investments?

• What would you hope to gain from temporary talent exchanges between the Federal Government and industry? What are the challenges or obstacles in conducting such exchanges and how would you recommend they be overcome?

• How can industry and the Federal Government better collaborate through all stages of product development to safeguard against bias in AI systems?

• How can the Federal Government incentivize responsible AI development through acquisition?¹

¹ In the Second Quarter Recommendations Memo, the Commission proposed “Key Considerations for Responsible Development & Fielding of AI” and recommended standards and practices that would apply both to systems developed by departments and agencies, as well as those that are acquired (including Commercial off-the-shelf systems or those developed by contractors). See Key Considerations for Responsible Development & Fielding of Artificial Intelligence, National Security Commission on Artificial Intelligence, pg. 6 (July 22, 2020), https://www.nscai.gov/reports.

Dated: September 17, 2020.
Michael Gable,
Chief of Staff.

[FR Doc. 2020-20922 Filed 9-22-20; 8:45 am]

BILLING CODE 3610-Y8-P